DEPARTMENT OF TRANSPORTATION

Federal Highway Administration

[Docket No. FHWA-2008-0189]

Emergency Temporary Closure of I-395 & I-695 Southeast and Southwest Highway in the District of Columbia

AGENCY: Federal Highway Administration (FHWA), DOT.

ACTION: Announcement for the District of Columbia to temporarily close the SE/SW Highway (I-395 & I-695), on January 20, 2009, for safety and security purposes for the Inauguration of the President of the United States.

SUMMARY: Pursuant to section 658.11(e) of title 23, Code of Federal Regulations, the Washington, DC Department of Transportation (DDOT) has requested approval of a plan to temporarily close segments of the Interstate to all traffic except motor coaches and buses—I-395 (from the 14th Street Bridge to New York Avenue), I-695 (from the 3rd Street Tunnel to the 11th Street Bridges), and I-295 (from I-695 to DC-295)—on January 20, 2009, beginning at 12 a.m., for one consecutive 24-hour period, because of the Presidential Inauguration. I-395 would be closed to general purpose traffic at New York Avenue up to the 14th Street Bridge. I-695 would be closed to general purpose traffic at the 11th Street Bridges. I-295 would be closed to general purpose traffic at Pennsylvania Avenue. The request has been made for the purposes of safety and security in and around the Capitol Building as well as for the critically needed space to park a portion of the expected 10,000 buses bringing people into the Washington area on January 20th. The Interstate routes included in the request are part of the National Network of highways that can safely and efficiently accommodate the large vehicles authorized by provisions of the Surface Transportation Assistance Act of 1982 (STAA), as amended, designated in accordance with 23 CFR Part 658 and listed in Appendix A. This regulation limits the authority of the States to restrict the access of these commercial motor vehicles to the designated National Routes, and requires the approval of the FHWA for additions, deletions, exceptions and restrictions in accordance with 23 CFR 658.11. The FHWA has decided to approve the request by the DDOT as an emergency deletion in accordance with section 658.11(e) due to the safety considerations discussed in this notice. The FHWA is requesting comments from the general public on this determination. Under title 23 of the Code of Federal Regulations, section 658.11 (Additions, deletions, exceptions, and restrictions), the FHWA can grant the closing of the Interstate system or other National Network route based upon specified justification criteria in section 658.11(d)(2). The FHWA is also authorized to delete any route from the National Network on an emergency basis based on safety considerations pursuant to section 658.11(e). These emergency deletions are published in the Federal Register for notice and comment.

DATES: Comments must be received on or before January 16, 2009.

ADDRESSES: The letter of request along with justifications can be viewed electronically at the docket established for this rulemaking at http://www.regulations.gov. Hard copies of the documents will also be available for viewing at the DOT address listed below.

Mail or hand deliver comments to the U.S. Department of Transportation, Dockets Management Facility, Room W12-140, 1200 New Jersey Avenue, SE., Washington, DC 20590, or submit comments electronically at http://www.regulations.gov, or fax comments to (202) 493-2251. Alternatively, comments may be submitted via the Federal eRulemaking Portal at http://www.regulations.gov (follow the on-line instructions for submitting comments). All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. All comments received into any docket may be searched in electronic format by the name of the individual submitting the comment (or signing the comment, if submitted on behalf of an association, business, labor union, etc.). Persons making comments may review DOT's complete Privacy Act Statement in the Federal Register published on April 11, 2000 (Volume 65, Number 70, Pages 19477-78), or you may view the statement at http://dms.dot.gov.

FOR FURTHER INFORMATION CONTACT: Mr. Michael P. Onder, Team Leader Truck Size and Weight and Freight Operations and Technology Team, (202) 366-2639, Raymond W. Cuprill, Office of the Chief Counsel, (202) 366-0791, Federal Highway Administration; 1200 New Jersey Avenue, SE., Washington, DC 20590, and Mr. Mark Kehrli, FHWA Division Administrator—Washington, DC, (202) 219-3536. Office hours for the FHWA are from 7:45 a.m. to 4:15 p.m., e.t., Monday through Friday, except Federal holidays.

SUPPLEMENTARY INFORMATION:

Electronic Access and Filing

You may submit or retrieve comments online through the Federal eRulemaking portal at: http://www.regulations.gov. The Web site is available 24 hours each day, 365 days each year. Electronic submission and retrieval help and guidelines are available under the help section of the Web site.

An electronic copy of this document may also be downloaded from the Office of the Federal Register's home page at: http://www.archives.gov/federal_register and the Government Printing Office's Web page at: http://www.gpoaccess.gov.

Background

On January 20, 2009, as a result of the inauguration activities, the number of participants and spectators is expected to reach 2-4 million, overwhelming both the roadway and transit networks in the District of Columbia and will create a safety hazard for commercial traffic to traverse these routes during that time. This is one of the principal reasons for the closure of these routes to commercial traffic. Additionally, preliminary data indicates that approximately 10,000 or more motor coaches within a 1,000-mile radius of the District of Columbia are expected to travel to the District. As such, safety in normal transport and in the event of emergency evacuation requires creating transportation redundancy. That redundancy can best be created by allowing arrivals by motor coach to proceed directly (without transfer to transit or another vehicle) to the inaugural checkpoint areas and then by allowing the motor coaches to park within walking distance of the drop-off location. The identified segments of I-395/I-295/I-695, if temporarily restricted to prohibit general purpose traffic, provides the best and only feasible location for allowing large numbers of motor coaches to approach the departure from the inauguration and the subsequent parade while providing the possibility of expedited departures in the event of an emergency.

Temporary closure of these segments of the Interstate to general purpose traffic means that the motor coaches can be moved in and out with maximum safety while providing the possibility of expedited departures in the event of an emergency. Temporary closure of these segments of Interstate to general purpose traffic also facilitates the movement of emergency vehicles into and out of the area, thereby enhancing safety. To further enhance safety, the motor coaches will be parked in the roadway approach spans, beyond the bridge limits. This will minimize bridge overloading and ensure routes for pedestrian traffic and emergency vehicles.

The temporary closure should have no impact on Interstate commerce. I-95, which is the main north-south Interstate route in the region, is signed around the Washington Beltway (I-495) so that Interstate traffic need not enter the District at all. Likewise, Interstate traffic seeking to go west via I-66 or I-270 can access either I-66 or I-270 via I-495 without ever entering the District. Likewise, traffic seeking to go east via U.S. Route 50 can access U.S. Route 50 via I-495 without ever entering the District.

Commercial motor vehicles, of the dimensions and configurations described in 23 CFR 658.13 and 658.15, serving the area can utilize the routes listed above in response to 23 CFR 658.11(d)(2)(ii). Vehicles serving the immediate area north of the temporarily restricted I-395/I-295/I-695 segments of the Interstate will be unable to do so because the local and National Highway System (NHS) street network will also be closed during the inauguration. Therefore, the closure of the I-395/I-295/I-695 segments of the Interstate will have no material effect on such traffic. Entities requiring deliveries within and adjacent to the area of closed local and NHS streets will be encouraged to receive deliveries before or after January 20th. To assist in facilitating Interstate commerce, the DDOT and other District government agencies will coordinate with local governments and adjacent jurisdictions (i.e., VA and MD) to minimize traffic disruptions. Requests will be made for adjacent jurisdictions to cooperate in routing traffic around the closure and warn Interstate traffic of the closure by signs, and other means to get the message out to the trucking industry and the rest of the traveling public.

Authority: 23 U.S.C. 127, 315 and 49 U.S.C. 31111, 31112, and 31114; 23 CFR Part 658.

Issued on: December 31, 2008.
Thomas J. Madison, Jr.,
Federal Highway Administrator.

[FR Doc. E8-31472 Filed 1-6-09; 8:45 am]

BILLING CODE 4910-22-P